DEPARTMENT OF HEALTH AND HUMAN SERVICES

National Institutes of Health

Center for Scientific Review; Amended Notice of Meeting

Notice is hereby given of a change in the meeting of the Cardiovascular Differentiation and Development Study Section, June 12, 2008, 8 a.m. to June 13, 2008, 1 p.m., Holiday Inn Fisherman's Wharf, 1300 Columbus Avenue, San Francisco, CA, 94133 which was published in the Federal Register on April 22, 2008, 73 FR 21636-21639.

The meeting will be held at the Holiday Inn Express Hotel and Suites, Fisherman's Wharf, 550 North Point Street, San Francisco, CA 94133. The meeting dates and time remain the same. The meeting is closed to the public.

Dated: June 3, 2008.
Anna Snouffer,
Deputy Director, Office of Federal Advisory Committee Policy.

[FR Doc. E8-12908 Filed 6-10-08; 8:45 am]

BILLING CODE 4140-01-M